DEPARTMENT OF ENERGY

Federal Energy Regulatory Commission

[Project No. 11906-001]

Town of Bristol, New Hampshire; Notice of Surrender of Preliminary Permit

June 13, 2003.

Take notice that the Town of Bristol, New Hampshire, permittee for the proposed Franklin Falls Project, has requested that its preliminary permit be terminated. The permit was issued on June 25, 2001, and would have expired on May 31, 2004. The project would have been located on the Pemigewasset River in Merrimack and Belknap Counties, New Hampshire.

The permittee filed the request on May 6, 2003, and the preliminary permit for Project No. 11906 shall remain in effect through the 30th day after issuance of this notice unless that day is a Saturday, Sunday, or holiday as described in 18 CFR 385.2007, in which case the permit shall remain in effect through the first business day following that day. New applications involving this project site, to the extent provided for under 18 CFR part 4, may be filed on the next business day.

Magalie R. Salas,
Secretary.

[FR Doc. 03-15562 Filed 6-18-03; 8:45 am]

BILLING CODE 6717-01-P